DEPARTMENT OF COMMERCE

National Oceanic and Atmospheric Administration (NOAA)

[I.D. 022001B]

Submission for OMB Review; Comment Request

SUMMARY: The Department of Commerce has submitted to the Office of Management and Budget (OMB) for clearance the following proposal for collection of information under the provisions of the Paperwork Reduction Act (44 U.S.C. Chapter 35).

SUPPLEMENTARY INFORMATION: Agency: National Oceanic and Atmospheric Administration (NOAA).

Title: NOAA Space-Based Data Collection System (DCS) Agreements.

Form Number(s): None.

OMB Approval Number: 0648-0157.

Type of Request: Regular submission.

Burden Hours: 440.

Number of Respondents: 390.

Average Hours Per Response: 3 hours for a GOES use agreement, 1 hour for an Argos use agreement.

Needs and Uses: NOAA operates two space-based data collection systems (DCS): the Geostationary Operational Environmental Satellite (GOES) DCS and the Argos DSC flown on polar-orbiting satellites. NOAA allows users access to the DCS if they meet certain criteria. Applicants must submit information to ensure they meet these criteria. NOAA does not approve agreements when commercial services are available that can fulfill users' requirements.

Affected Public: Not-for-profit institutions, business or other for-profit organizations, individuals, and state, local, or tribal government.

Frequency: 3-5 years.

Respondent's Obligation: Required to obtain or retain benefits.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: February 15, 2001.
Madeleine Clayton,
Departmental Forms Clearance Officer, Office of the Chief Information Officer.

[FR Doc. 01-4691 Filed 2-26-01; 8:45 am]

BILLING CODE 3510-HR-S